DEPARTMENT OF VETERANS AFFAIRS

Capital Asset Realignment for Enhanced Services (CARES) Commission

Notice of Establishment

As required by section 9(a)(2) of the Federal Advisory Committee Act, the Department of Veterans Affairs (VA) hereby gives notice of the establishment of the Capital Asset Realignment for Enhanced Services (CARES) Commission. The Secretary of Veterans Affairs has determined that establishing the Commission is both necessary and in the public interest.

The Commission will conduct a nationwide review to determine VA's capability to support the delivery of veterans health care services through the next 20 years and will make specific recommendations to the Secretary regarding the realignment and allocation of capital assets necessary to provide such services. In making its recommendations, the Commission with focus on the accessibility and cost effectiveness of care to be provided, while ensuring that the integrity of VA's health care and related missions is maintained, and any adverse impact on VA staff and affected communities is minimized.

The Commission will consider recommendations submitted by the VA Under Secretary for Health and will also consider other views and concerns submitted in writing during a 60-day period following the Under Secretary's recommendations. The Commission will also hold public hearings to receive and consider the views and recommendations of veterans service organizations, Congress, medical school affiliates, VA employees, local government entities, affected community groups and other interested parties.

The Commission shall consist of members appointed by the Secretary. Those members shall serve as objective advisors to the Secretary. The Commission shall submit its recommendations to the Secretary not later than September 30, 2003, unless that date is extended by the Secretary.

Dated: November 22, 2002.
By Direction of the Secretary.
Ronald R. Aument,
Deputy Chief of Staff.

[FR Doc. 02-30300 Filed 11-27-02; 8:45 am]

BILLING CODE 8320-01-P